DEPARTMENT OF COMMERCE

National Oceanic and Atmospheric Administration

50 CFR Part 648

[Docket No. 060906236-6236-01; I.D. 083006B]

RIN 0648-AU83

Fisheries of the Northeastern United States; Method For Measuring Net Mesh Size

AGENCY: National Marine Fisheries Service (NMFS), National Oceanic and Atmospheric Administration (NOAA), Commerce.

ACTION: Proposed rule; request for comments.

SUMMARY: NMFS proposes to amend the regulations governing how fishing net mesh size is measured in the Northeast. This proposed change would increase the weight used to measure mesh larger than 120 mm (4.72 inches) in all fisheries. The intent of this proposed rule is to ensure consistent and accurate measurements of fishing net mesh size.

DATES: Written comments must be received no later than 5 p.m. local time on October 26, 2006

ADDRESSES: Comments may be submitted by any of the following methods:

E-mail: MeshRegChange@noaa.gov

Federal e-Rulemaking Portal: http://www.regulations.gov.

Mail: Patricia A. Kurkul, Regional Administrator, Northeast Region, National Marine Fisheries Service, One Blackburn Drive, Gloucester, MA 01930-2298. Please write on the envelope: Comments on Proposed Change to Mesh Measurement Regulations.

FOR FURTHER INFORMATION CONTACT: Douglas Potts, Fishery Management Specialist, (978) 281-9341, FAX (978) 281-9135.

SUPPLEMENTARY INFORMATION:

Background

NOAA Office of Law Enforcement, U.S. Coast Guard, and state enforcement partners have recently issued a clarification of the method used in measuring fishing net mesh size. This protocol closely follows the regulatory language, at 50 CFR Part 648, that a wedge-shaped net measurement gauge be allowed to settle under a specified weight, without shaking the net or pressing on the gauge to force it deeper into the mesh opening. This clarification eliminated some of the variation in methods used previously by the various enforcement agencies and personnel. However, the New England Fishery Management Council (Council) raised a concern that the twine bars of stiffer twines (especially those used in larger mesh) may not align properly under a load of 5 kg (11.02 lb), the specified force for all mesh sizes for many years. This has led to an increase in citations for mesh-size violations on gear that had previously measured as legal.

The Council has requested that the NMFS increase the weight to 8 kg (17.64 lb) for measuring the opening in mesh greater than 120 mm (4.72 inches). The increased weight would produce a force consistent with the recommendations of the International Council for the Exploration of the Seas (ICES) in the 2004 report Mesh Size Measurement Revisited, which were incorporated into ICES's new OMEGA (Objective Mesh Gauge) mesh measurement gauge. The 5-kg weight would continue to be used to measure mesh smaller than 120 mm. Other measurement systems require frequent calibration and/or are subject to loss of battery power. The wedge gauge also has a long established case history in the Northeast.

It is not expected that the increased weight would result in any de facto reduction in legal mesh size. Scientific studies that determine the selectivity and retention of specific mesh sizes typically use a longitudinal measuring force such as the old ICES gauge or the new OMEGA gauge rather than the wedge. The increased weight is not enough to significantly distort the mesh and would not result in the use of mesh smaller than that considered in previous analyses of environmental impacts.

Classification

NMFS has determined that this proposed rule is consistent with the FMPs and preliminarily determined that the rule is consistent with the Magnuson-Stevens Fishery Conservation and Management Act and other applicable laws.

This proposed rule has been determined to be not significant for purposes of Executive Order 12866.

The Regional Administrator has determined that this proposed rule is a minor technical addition, correction, or change to a management plan and is therefore categorically excluded from the requirement to prepare an Environmental Impact Statement or equivalent document under the National Environmental Policy Act.

The Chief Counsel for Regulation of the Department of Commerce certified to the Chief Counsel for Advocacy of the Small Business Administration that this proposed rule, if adopted, would not have a significant economic impact on a substantial number of small entities. This amendment would not change the minimum mesh size for any fishery or require any fishermen to purchase new gear. The only economic impact of the proposed rule would be to law enforcement agencies to acquire the additional weights. In addition, because this rule is expected to correct the increase in mesh size violations on gear that had previously measured legally, this rule may provide an economic benefit to fishermen. As a result, an initial regulatory flexibility analysis is not required and none has been prepared.

List of Subjects in 50 CFR Part 648

Fisheries, Fishing, Reporting and recordkeeping requirements.

Dated: September 20, 2006.
Samuel D. Rauch III,
Deputy Assistant Administrator For Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

2. In § 648.51, paragraph (a)(2)(ii) is revised to read as follows:

§ 648.51 Gear and crew restrictions.

(a) * * *

(2) * * *

(ii) Measurement of mesh size. Mesh size is measured by using a wedge-shaped gauge having a taper of 2 cm (0.79 inches) in 8 cm (3.15 inches) and a thickness of 2.3 mm (0.09 inches), inserted into the meshes under a pressure or pull of 5 kg (11.02 lb) for mesh size less than 120 mm (4.72 inches) and under a pressure or pull of 8 kg (17.64 lb) for mesh size at, or greater than, 120 mm (4.72 inches). The mesh size is the average of the measurements of any series of 20 consecutive meshes for nets having 75 or more meshes, and 10 consecutive meshes for nets having fewer than 75 meshes. The mesh in the regulated portion of the net is measured at least five meshes away from the lacings running parallel to the long axis of the net.

* * * * *

3. In § 648.80, paragraph (f)(2) is revised to read as follows:

§ 648.80 NE Multispecies regulated mesh areas and restrictions on gear and methods of fishing.

* * * * *

(f) * * *

(2) All other nets. With the exception of gillnets, mesh size is measured by a wedge-shaped gauge having a taper of 2 cm (0.79 inches) in 8 cm (3.15 inches), and a thickness of 2.3 mm (0.09 inches), inserted into the meshes under a pressure or pull of 5 kg (11.02 lb) for mesh size less than 120 mm (4.72 inches) and under a pressure or pull of 8 kg (17.64 lb) for mesh size at, or greater, than 120 mm (4.72 inches).

* * * * *

4. In § 648.104, paragraph (a)(2) is revised to read as follows:

§ 648.104 Gear restrictions

(a) * * *

(2) Mesh size is measured by using a wedge-shaped gauge having a taper of 2 cm (0.79 inches) in 8 cm (3.15 inches), and a thickness of 2.3 mm (0.09 inches), inserted into the meshes under a pressure or pull of 5 kg (11.02 lb) for mesh size less than 120 mm (4.72 inches) and under a pressure or pull of 8 kg (17.64 lb) for mesh size at, or greater than, 120 mm (4.72 inches). The mesh size is the average of the measurements of any series of 20 consecutive meshes for nets having 75 or more meshes, and 10 consecutive meshes for nets having fewer than 75 meshes. The mesh in the regulated portion of the net is measured at least five meshes away from the lacings, running parallel to the long axis of the net.

* * * * *

[FR Doc. 06-8187 Filed 9-25-06; 8:45 am]

BILLING CODE 3510-22-S